NATIONAL ARCHIVES AND RECORDS ADMINISTRATION

[NARA-2021-009]

Agency Information Collection Activities: Proposed Collection; Comment Request

AGENCY: National Archives and Records Administration (NARA).

ACTION: Notice of proposed extension request.

SUMMARY: NARA proposes to request an extension from the Office of Management and Budget (OMB) of approval to use forms by which we collect information from people requesting military records so that we can locate, identify, and provide the requested information. We invite you to comment on this proposed information collection pursuant to the Paperwork Reduction Act of 1995.

DATES: We must receive comments in writing on or before February 9, 2021.

ADDRESSES: Send comments by email to tamee.fechhelm@nara.gov. Because our buildings are temporarily closed during the COVID-19 restrictions, we are not able to receive comments by mail during this time.

FOR FURTHER INFORMATION CONTACT: Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), we invite the public and other Federal agencies to comment on proposed information collections. The comments and suggestions should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses. We will summarize any comments you submit and include the summary in our request for OMB approval. All comments will become a matter of public record.

In this notice, we solicit comments concerning the following information collection:

Title: Request Pertaining to Military Records.

OMB number: 3095-0029.

Agency form number: SF 180 and NA Form 13176; online form in eVetRecs is an electronic equivalent to the SF 180.

Type of review: Regular.

Affected public: Individuals who request access to military records, military medical records, and medical records of military dependents.

Estimated number of respondents: 953,328.

Estimated time per response: 5 minutes.

Frequency of response: On occasion (when an individual wishes to request information from military records, military medical records, or medical records of military dependents).

Estimated total annual burden hours: 79,444 hours.

Abstract: The general purpose of this voluntary data collection is to determine what is being requested, where records are located, what information is releasable, and where to send the response. When third parties submit requests, the information collected and provided serves as records of disclosure, which are required by the Privacy Act. The information collected via the SF 180 and eVetRecs is vital to our National Personnel Records Center, which stores and handles these records. We need this information to locate and release information from requested records. It also significantly improves our ability to provide timely and accurate information to requesters.

Swarnali Haldar,
Executive for Information Services/CIO.

[FR Doc. 2020-27343 Filed 12-10-20; 8:45 am]

BILLING CODE 7515-01-P